DEPARTMENT OF HEALTH AND HUMAN SERVICES

National Institutes of Health

National Cancer Institute Amended Notice of Meeting

Notice is hereby given of a change in the meeting of the National Cancer Institute Council of Research Advocates, May 20, 2019, 9:30 a.m. to 4:00 p.m., National Institutes of Health, Building 40, Room 1201/1203, 40 Convent Drive, Bethesda, MD 20892 which was published in the Federal Register on April 11, 2019, 84 FR 14662.

This meeting notice is amended to change the meeting start time from 9:00 a.m. to 9:30 a.m. on May 20, 2019 at the National Institutes of Health, Building 40, Room 1201/1203, 40 Convent Drive, Bethesda, MD 20892. This meeting is open to the public.

Dated: May 13, 2019.
Melanie J. Pantoja,
Program Analyst, Office of Federal Advisory Committee Policy.

[FR Doc. 2019-10217 Filed 5-16-19; 8:45 am]

BILLING CODE 4140-01-P